FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 13, 2017.

A. Federal Reserve Bank of Atlanta (Kathryn Haney, Director of Applications) 1000 Peachtree Street NE., Atlanta, Georgia 30309. Comments can also be sent electronically to Applications.Comments@atl.frb.org:

1. Lawrence Andrew Proffitt, Gatlinburg, Tennessee; to act as trustee and thereby vote the shares of Tennessee State Bancshares, Inc., and thereby indirectly vote the shares of Tennessee State Bank, both of Pigeon Forge, Tennessee.

Board of Governors of the Federal Reserve System, October 23, 2017.
Ann Misback,
Secretary of the Board.

[FR Doc. 2017-23357 Filed 10-26-17; 8:45 am]

BILLING CODE 6210-01-P